DEPARTMENT OF HEALTH AND HUMAN SERVICES

Centers for Disease Control and Prevention

Notice of Award of a Single-Source Cooperative Agreement To Fund the National AIDS and STDs Control Program (NASCP) Within the Federal Ministry of Health (FMOH), Nigeria

AGENCY: Centers for Disease Control and Prevention (CDC), Department of Health and Human Services (HHS).

ACTION: Notice.

SUMMARY: The Centers for Disease Control and Prevention (CDC), located within the Department of Health and Human Services (HHS), announces the award of approximately $3,000,000, for Year 1 funding to the National AIDS and STDs Control Program (NASCP) within the Federal Ministry of Health (FMOH). The award will involve substantial engagement with CDC-supported states with the objective of establishing HIV/AIDS programmatic sustainability including the achievement and maintenance of HIV/AIDS epidemic control at national and sub-national levels and across all sub-populations. Funding amounts for years 2-5 will be set at continuation.

DATES: The period for this award will be September 30, 2022 through September 29, 2027.

FOR FURTHER INFORMATION CONTACT: Andrew Abutu, Center for Global Health, Centers for Disease Control and Prevention, National AIDS and STDs Control Program (NASCP), Plot 1075, Diplomatic Drive, Central Business District, Abuja, Nigeria, Telephone: 800-232-6348, Email: kdy7@cdc.gov.

SUPPLEMENTARY INFORMATION: The single-source award will implement a capacity building and government engagement initiative that progressively increases the managerial, technical, and financial investments of the Government of Nigeria (GON) in the HIV response at national and sub-national levels.

NASCP is a division of the Department of Public Health within the FMOH. NASCP is in a unique position to conduct this work, as it is the lead GON organization in Nigeria for leading and coordinating the national HIV/AIDS health sector response. Given its role as the lead GON organization for developing HIV/AIDS policy and program implementation across all states in Nigeria, NASCP is the sole authority qualified to perform essential programmatic activities and to implement a capacity building and government engagement initiative that progressively increases the managerial, technical, and financial investments of GON in the HIV response to foster sustainability at national and sub-national levels.

Summary of the Award

Recipient: National AIDS and STDs Control Program (NASCP) within the Federal Ministry of Health (FMOH).

Purpose of the Award: The purpose of this award is to strengthen Nigeria's human and institutional capacity at national and sub-national levels for the sustainability of the national HIV program. The execution of this system strengthening agenda will be implemented in partnership with Nigeria's NASCP within the FMOH. The award will involve substantial engagement with CDC-supported states with the objective of establishing HIV/AIDS programmatic sustainability including the achievement and maintenance of HIV/AIDS epidemic control at national and sub-national levels and across all sub-populations.

Amount of Award: The approximate year 1 funding amount will be $3,000,000 in Federal Fiscal Year (FYY) 2022 funds, subject to the availability of funds. Funding amounts for years 2-5 will be set at continuation.

Authority: This program is authorized under Public Law 108-25 (the United States Leadership Against HIV AIDS, Tuberculosis and Malaria Act of 2003).

Period of Performance: September 30, 2022 through September 29, 2027.

Dated: March 2, 2022.
Terrance Perry,
Chief Grants Management Officer, Centers for Disease Control and Prevention.

[FR Doc. 2022-04789 Filed 3-7-22; 8:45 am]

BILLING CODE 4163-18-P